DEPARTMENT OF TRANSPORTATION

Federal Aviation Administration

14 CFR Part 39

[Docket No. 2001-NM-122-AD; Amendment 39-12227; AD 2001-10-02]

RIN 2120-AA64

Airworthiness Directives; Empresa Brasileira de Aeronautica, S.A. (EMBRAER) Model EMB-135 and -145 Series Airplanes

AGENCY: Federal Aviation Administration, DOT.

ACTION: Final rule; request for comments.

SUMMARY: This amendment adopts a new airworthiness directive (AD) that is applicable to certain EMBRAER Model EMB-135 and -145 series airplanes. This action requires applying torque to certain tubing fittings of the fire extinguishing systems of various areas of the airplane, and applying torque paint to the fittings. This action is necessary to ensure that certain tubing fittings of the fire extinguishing systems are properly torqued. Improperly torqued tubing fittings of the fire extinguishing systems of the baggage compartment, auxiliary power units (APU), and engines, if not corrected, could become loose and cause the fire extinguisher to inadvertently discharge. Inadvertent discharge of a fire extinguisher could result in reduced fire protection or the inability to extinguish a fire in the baggage compartment, APU, or engine. This action is intended to address the identified unsafe condition.

DATES: Effective May 30, 2001.

The incorporation by reference of certain publications listed in the regulations is approved by the Director of the Federal Register as of May 30, 2001.

Comments for inclusion in the Rules Docket must be received on or before June 14, 2001.

ADDRESSES: Submit comments in triplicate to the Federal Aviation Administration (FAA), Transport Airplane Directorate, ANM-114, Attention: Rules Docket No. 2001-NM-122-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2001-NM-122-AD” in the subject line and need not be submitted in triplicate. Comments sent via fax or the Internet as attached electronic files must be formatted in Microsoft Word 97 for Windows or ASCII text.

The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Linda Haynes, Aerospace Engineer, Airframe and Propulsion Branch, ACE-117A, FAA, Atlanta Aircraft Certification Office, One Crown Center, 1895 Phoenix Boulevard, suite 450, Atlanta, Georgia 30349; telephone (770) 703-6091; fax (770) 703-6097.

SUPPLEMENTARY INFORMATION: The Departmento de Aviacao Civil (DAC), which is the airworthiness authority for Brazil, recently notified the FAA that an unsafe condition may exist on certain EMBRAER Model EMB-135 and -145 series airplanes. The DAC advises that it has received reports of looseness of some tubing fittings of the fire extinguishing systems of the engines located in the pylon inner area. In one event during maintenance, the fire extinguisher discharged into the pylon area. Investigation revealed the possibility that those fittings had been undertorqued during production of the airplanes. This possibility also exists for all other fittings at the fire extinguishing systems.

Improperly torqued tubing fittings of the fire extinguishing systems of the baggage compartment, auxiliary power units (APU), and engines, if not corrected, could become loose and cause the fire extinguisher to inadvertently discharge. Inadvertent discharge of a fire extinguisher could result in reduced fire protection or the inability to extinguish a fire in the baggage compartment, APU, or engine.

Explanation of Relevant Service Information

EMBRAER has issued Service Bulletin 145-26-0008, dated December 19, 2000, which describes procedures for applying torque to certain tubing fittings of the fire extinguishing systems in the following areas, as applicable:

1. Inner side of the left-and right-hand pylons of the engines.

2. Tail cone compartment, rear electronic compartment, and baggage compartment.

3. Between the pylon walls and the left- and right-hand engines.

4. APU in the tail cone compartment.

The service bulletin also describes procedures for applying torque paint to the fittings. Accomplishment of the actions specified in the service bulletin is intended to adequately address the identified unsafe condition. The DAC classified this service bulletin as mandatory and issued Brazilian airworthiness directive 2001-02-01, dated February 21, 2001, in order to assure the continued airworthiness of these airplanes in Brazil.

FAA's Conclusions

This airplane model is manufactured in Brazil and is type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Rule

Since an unsafe condition has been identified that is likely to exist or develop on other airplanes of the same type design registered in the United States, this AD is being issued to ensure that certain tubing fittings of the fire extinguishing systems are properly torqued. Improperly torqued tubing fittings of the fire extinguishing systems of the baggage compartment, APUs, and engines, if not corrected, could become loose and cause the fire extinguisher to inadvertently discharge. Inadvertent discharge of a fire extinguisher could result in reduced fire protection or the inability to extinguish a fire in the baggage compartment, APU, or engine. This AD requires accomplishment of the actions specified in the service bulletin described previously.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-122-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-10-02 Empresa Brasileira de Aeronautica, S.A. (EMBRAER): Amendment 39-12227. Docket 2001-NM-122-AD.

Applicability: Model EMB-135 and -145 series airplanes, as listed in EMBRAER Service Bulletin 145-26-0008, dated December 19, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To ensure that certain tubing fittings of the fire extinguishing systems are properly torqued, accomplish the following:

Torque and Paint

(a) Within 100 flight hours after the effective date of this AD, apply torque to the tubing fittings of the fire extinguishing system of the engines in the inner side of the left- and right-hand pylons, and apply torque paint to the fittings, per EMBRAER Service Bulletin 145-26-0008, dated December 19, 2000.

(b) Within 400 flight hours after the effective date of this AD, do the actions specified in paragraphs (b)(1), (b)(2), (b)(3), and (b)(4) of this AD, as applicable, per EMBRAER Service Bulletin 145-26-0008, dated December 19, 2000.

(1) For all airplanes: Apply torque to the remaining tubing fittings (i.e., those fittings not indicated in paragraph (a) of this AD) of the engine fire extinguishing system in the tail cone compartment, rear electronic compartment, and baggage compartment, and to the tubing fittings between the pylon walls and the left- and right-hand engines.

(2) For all airplanes: Apply torque to the tubing fittings of the fire extinguishing system of the auxiliary power unit.

(3) For airplanes configured with a Class “C” baggage compartment: Apply torque to all tubing fittings of the fire extinguishing system of the baggage compartment.

(4) For all airplanes: Apply torque painting to the tubing fittings.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with EMBRAER Service Bulletin 145-26-0008, dated December 19, 2000. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, Suite 450, Atlanta, Georgia; or at the Office of the Federal Register, 800 North Capitol Street, NW., suite 700, Washington, DC.

Note 3: The subject of this AD is addressed in Brazilian airworthiness directive 2001-02-01, dated February 21, 2001.

Effective Date

(f) This amendment becomes effective on May 30, 2001.

Issued in Renton, Washington, on May 7, 2001.
Donald L. Riggin,
Acting Manager, Transport Airplane Directorate, Aircraft Certification Service.

[FR Doc. 01-11900 Filed 5-14-01; 8:45 am]

BILLING CODE 4910-13-U